ENVIRONMENTAL PROTECTION AGENCY

[3ER-FRL-9011-1]

Environmental Impacts Statements; Notice of Availability

Responsible Agency: Office of Federal Activities, General Information (202) 564-7146 or http://www.epa.gov/compliance/nepa/.

Weekly receipt of Environmental Impact Statements

Filed 09/03/2013 through 09/06/2013

Pursuant to 40 CFR 1506.9.

Notice

Section 309(a) of the Clean Air Act requires that EPA make public its comments on EISs issued by other Federal agencies. EPA's comment letters on EISs are available at: http://www.epa.gov/compliance/nepa/eisdata.html.

EIS No. 20130263, Draft EIS, FHWA, NV, Pyramid Highway/US 395 Connection, Comment Period Ends: 11/12/2013, Contact: Abdelmoez Abdalla 775-687-1231

EIS No. 20130264, Final EIS, FHWA, CO, Interstate 25 Improvements through Pueblo, Review Period Ends: 10/15/2013, Contact: Chris Horn 720-963-3017

EIS No. 20130265, Final EIS, USFS, UT, Fishlake National Forest Oil and Gas Leasing Analysis Project, Review Period Ends: 10/21/2013, Contact: Rob Hamilton 435-896-1022

EIS No. 20130266, Draft EIS, USN, GU, The Mariana Islands Training and Testing, Comment Period Ends: 11/12/2013, Contact: John Van Name 808-471-1714

EIS No. 20130267, Final Supplement, USFS, CA, Sierra Nevada Forest Plan Amendment (SNFPA), Review Period Ends: 11/18/2013, Contact: Donald Yasuda 916-640-1168

EIS No. 20130268, Final EIS, USFWS, WV, Proposed Issuance of an Incidental Take Permit For the Beech Ridge Energy Wind Project Habitat Conservation Plan, Review Period Ends: 10/15/2013, Contact: Laura Hill 304-636-6586

EIS No. 20130269, Draft EIS, NRC, 00, Generic—Waste Confidence, Comment Period Ends: 11/27/2013, Contact: Sarah Lopas 301-287-0675

EIS No. 20130270, Draft EIS, FHWA, OH, Cleveland Opportunity Corridor Project, Comment Period Ends: 10/28/2013, Contact: Naureen Dar 614-280-6846

EIS No. 20130271, Final EIS, HUD, NY, Halletts Point Rezoning, Review Period Ends: 10/15/2013, Contact: Robert Dobruskin 212-720-3423

EIS No. 20130272, Final EIS, USFS, AK, Greens Creek Mine Tailings Disposal Facility Expansion, Review Period Ends: 10/28/2013, Contact: Sarah Samuelson 907-789-6274

Amended Notices

EIS No. 20130159, Final Supplement, USACE, IN, Indianapolis North Flood Damage Reduction Project, Review Period Ends: 10/31/2013, Contact: Keith Keeney 502-315-6885 Revision to FR Notice Published 07/05/2013; Extending Comment Period from 09/06/2013 to 10/31/2013

EIS No. 20130260, Draft EIS, BIA, NV, Moapa Solar Energy Center, Comment Period Ends: 10/21/2013, Contact: Amy Heuslein 602-379-6750 Revision to FR Notice Published 09/06/2013; Correction to Comment Period—Change from 10/14/2013 to 10/21/2013 and Contact Phone Number should be 602-379-6750.

Dated: September 10, 2013.
Aimee S. Hessert,
Deputy Director, NEPA Compliance Division, Office of Federal Activities.

[FR Doc. 2013-22363 Filed 9-12-13; 8:45 am]

BILLING CODE 6560-50-P